DEPARTMENT OF ENERGY

Federal Energy Regulatory Commission

[Project No. 2576-083]

FirstLight Hydro Generating Company; Notice of Application Soliciting Comments, Motions To Intervene, and Protests

August 19, 2008.

Take notice that Commission staff is providing an opportunity for public input regarding additional information that has been filed regarding a pending proceeding before the Commission on the following application:

a. Application Type: Supplement(s) to Shoreline Management Plan.

b. Project No: 2576-083.

c. Date Filed: July 27, 2006, supplemented January 18, and June 27, 2008.

d. Applicant: FirstLight Power Hydro Generating Company.

e. Name of Project: Housatonic River Hydroelectric Project.

f. Location: The project is located on the Housatonic River, in Fairfield, Litchfield and New Haven Counties, Connecticut.

g. Filed Pursuant to: Federal Power Act, 16 U.S.C. 791(a)-825(r).

h. Applicant Contact: Mr. Robert Gates, Station Manager-Connecticut Hydro, 143 West St., Ext. Suite E , New Milford, CT 06776, (860) 350-3617.

i. FERC Contact: Any questions on this notice should be addressed to Isis Johnson at (202) 502-6346, or by e-mail: Isis.Johnson@ferc.gov.

j. Deadline for filing comments and/or motions: September 19, 2008.

By letter dated December 12, 2007, and April 30, 2008, the Commission requested that the applicant file additional information regarding the shoreline management plan for the Housatonic Project. This notice is intended to grant members of the public the opportunity to provide comments on this supplemental information. Any entity that has previously intervened with regard to this proceeding is a party and not required to submit additional motions. Likewise, all comments that have been filed with the Commission in this proceeding are still applicable; as such, re-filing of comments is not necessary.

All documents (original and eight copies) should be filed with: Ms. Kimberley D. Bose, Secretary, Federal Energy Regulatory Commission, DHAC, PJ-12.1, 888 First Street, NE., Washington, DC 20426. Please include the project number (P-2576-083) on any comments or motions filed. Comments, protests and interventions may be filed electronically via the Internet in lieu of paper. See, 18 CFR 385.2001(a)(1)(iii) and the instructions on the Commission's Web site under the “e-Filing” link. The Commission strongly encourages electronic filings.

k. Description of Proposal: The shoreline management plan (SMP) was filed with the Commission as required by the project license. The proposed SMP provides for the maintenance of safe public access to lake shorelines and riverfront lands and waters, as well as for the stewardship and development of shoreline/riverfront areas. The SMP also contains provisions to promote the conservation of land and water-related resources, in addition to promoting education and public awareness of resource protection and management programs. The SMP also includes guidelines for permitting new and existing structures on project lands, and a fee schedule to recover the administrative costs of implementing the permitting program.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3372, or for TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 211, 214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-19689 Filed 8-25-08; 8:45 am]

BILLING CODE 6717-01-P